DEPARTMENT OF THE INTERIOR

National Park Service

[N6965; NPS-WASO-NAGPRA-NPS0042107; PPWOCRADN0-PCU00RP14.R50000]

Notice of Intended Repatriation: The Barnes Foundation, Philadelphia, PA

AGENCY: National Park Service, Interior.

ACTION: Notice.

SUMMARY: In accordance with the Native American Graves Protection and Repatriation Act (NAGPRA), the Barnes Foundation intends to repatriate certain cultural items that meet the definition of objects of cultural patrimony and that have a cultural affiliation with the Indian Tribes or Native Hawaiian organizations in this notice.

DATES: Repatriation of the cultural items in this notice may occur on or after April 1, 2026.

ADDRESSES: Send additional, written requests for repatriation of the cultural items in this notice to Andrea Cakars, Barnes Foundation, 2025 Benjamin Franklin Parkway, Philadelphia, PA 19130, email acakars@barnesfoundation.org.

SUPPLEMENTARY INFORMATION: This notice is published as part of the National Park Service's administrative responsibilities under NAGPRA. The determinations in this notice are the sole responsibility of the Barnes Foundation, and additional information on the determinations in this notice, including the results of consultation, can be found in the summary or related records. The National Park Service is not responsible for the determinations in this notice.

Abstract of Information Available

A total of five cultural items have been requested for repatriation. The five objects of cultural patrimony are all pottery vessels. The vessels were made by members of the Santa Ana Pueblo between circa 1840 and 1870. They were acquired by Dr. Albert C. Barnes in the years 1929-1931 in New Mexico. One was a gift from the artist Andrew Dasburg. They are made of fired clay, basalt temper, and slip and have polychrome decoration. They measure between 4¾ and 13⅜ inches height and between 6⅛ and 17 inches width. They are not known to have been treated with any potentially hazardous substances.

Determinations

The Barnes Foundation has determined that:

• The five objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Pueblo of Santa Ana, New Mexico.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 1, 2026. If competing requests for repatriation are received, the Barnes Foundation must determine the most appropriate requestor prior to repatriation. Requests for joint repatriation of the cultural items are considered a single request and not competing requests. The Barnes Foundation is responsible for sending a copy of this notice to the Indian Tribes and Native Hawaiian organizations identified in this notice and to any other consulting parties.

Authority: Native American Graves Protection and Repatriation Act, 25 U.S.C. 3004 and the implementing regulations, 43 CFR 10.9.

Dated: February 20, 2026.
Melanie O'Brien,
Manager, National NAGPRA Program.

[FR Doc. 2026-04051 Filed 2-27-26; 8:45 am]

BILLING CODE 4312-52-P